NUCLEAR REGULATORY COMMISSION

[Docket No. 50-302; NRC-2011-0024]

Florida Power Corporation, Crystal River Unit 3 Nuclear Generating Plant; Exemption

1.0 Background

Florida Power Corporation (the licensee) is the holder of Facility Operating License No. DPR-72, which authorizes operation of the Crystal River Unit 3 Nuclear Generating Plant (Crystal River). The license provides, among other things, that the facility is subject to all rules, regulations, and orders of the U.S. Nuclear Regulatory Commission (NRC, the Commission) now or hereafter in effect.

The facility consists of one pressurized-water reactor located in Citrus County, Florida.

2.0 Request/Action

Title 10 of the Code of Federal Regulations (10 CFR) Part 55, “Operators' Licenses,” Section 55.59, “Requalification,” requires that a facility's licensed operator requalification program be conducted for a continuous period not to exceed 2 years (24 months) and upon conclusion must be promptly followed, pursuant to a continuous schedule, by successive requalification programs. Each 2-year requalification program must include a biennial comprehensive written examination and annual operating tests.

By letter dated December 2, 2010, as superseded by letter dated December 13, 2010, the licensee requested a one-time exemption under 10 CFR 55.11 from the schedule requirements of 10 CFR 55.59. Specifically for Crystal River, the licensee has requested a one-time extension from February 28, 2011, to April 30, 2011, for completing the current licensed operator requalification program. The next requalification program period would begin May 1, 2011, and continue for 24 months to April 30, 2013, with successive periods running for 24 months. This requested exemption would allow an extension of 2 months beyond the 24-month requalification program schedule required by 10 CFR 55.59.

3.0 Discussion

Pursuant to 10 CFR 55.11, the Commission may, upon application by an interested person, or upon its own initiative, grant exemptions from the requirements of 10 CFR Part 55 when the exemptions are authorized by law and will not endanger life or property and are otherwise in the public interest.

Authorized by Law

The exemption being requested for Crystal River would alleviate potential scheduling difficulties associated with administering requalification examinations and completing the requalification program at the end of an extended shutdown period. As stated above, 10 CFR 55.11 allows the NRC to grant exemptions from the requirements of 10 CFR Part 55. The NRC staff has determined that granting of the licensee's proposed exemption will not result in a violation of the Atomic Energy Act of 1954, as amended, or the Commission's regulations. Therefore, the exemption is authorized by law.

No Endangerment of Life or Property and Otherwise in the Public Interest

The underlying purposes of 10 CFR 55 are to establish procedures and criteria for the issuance of licenses to operators, provide for the terms and conditions upon which the Commission will issue or modify these licenses, and provide for the terms and conditions to maintain and renew these licenses. Specifically, 10 CFR 55.59 establishes the requirements for operator requalification programs and requires a 2-year (24-month) requalification schedule to include a biennial comprehensive written examination and annual operating tests.

Crystal River is in the final stages of an extended outage in which significant plant modifications have been completed. Crystal River has requested a 2-month extension to the requirements of 10 CFR 55.59 due to the reasonable probability of activities associated with plant startup overlapping the biennial comprehensive written examination and annual operating examination period.

Although the 24-month schedule requirement of 10 CFR 55.59 at Crystal River would be exceeded, Crystal River has trained the licensed operators on the plant modifications completed during the outage and examined operators on the modified plant configuration with positive results. During both the originally scheduled and extended periods of the outage, Crystal River has continued the requalification training cycle in accordance with the Institute of Nuclear Power Operations (INPO) accredited training program. All Crystal River licensed operators are actively enrolled in the accredited training program.

Moving the end of the requalification program, including the biennial comprehensive written examination and annual operating test, to April 30, 2011, would: (1) Allow operators to focus on preparing for and performing activities associated with plant startup after an extended maintenance period with significant plant modifications; (2) maximize the number of licensed operators available to perform licensed duties during startup; and (3) assist in managing operator fatigue during startup activities.

Licensed operator fatigue is of serious concern to the NRC, and the NRC staff has concluded that this exemption will allow the licensee to better manage licensed operator fatigue during a period of high workload. Further, the NRC staff has concluded that allowing operators to focus on startup activities will support safe plant operations during a series of infrequently performed evolutions. Based on the above, the NRC staff has determined that the exemption will not endanger life or property and is otherwise in the public interest.

4.0 Environmental Consideration

This exemption authorizes a one-time exemption from the requirements of 10 CFR 55.59(c)(1) for Crystal River. The NRC staff has determined that this exemption involves no significant hazards considerations:

(1) The proposed exemption is administrative in nature and is limited to extending the current licensed operator requalification program period for Crystal River from 24 to 26 months on a one-time only basis. The proposed exemption does not make any changes to the facility or operating procedures and does not alter the design, function or operation of any plant equipment. Therefore, issuance of this exemption does not increase the probability or consequences of an accident previously evaluated.

(2) The proposed exemption is administrative in nature and is limited to extending the current licensed operator requalification program period for Crystal River from 24 to 26 months on a one-time only basis. The proposed exemption does not make any changes to the facility or operating procedures and would not create any new accident initiators. The proposed exemption does not alter the design, function or operation of any plant equipment. Therefore, this exemption does not create the possibility of a new or different kind of accident from any accident previously evaluated.

(3) The proposed exemption is administrative in nature and is limited to extending the current licensed operator requalification program period for Crystal River from 24 to 26 months on a one-time only basis. The proposed exemption does not alter the design, function or operation of any plant equipment. Therefore, this exemption does not involve a significant reduction in the margin of safety.

Based on the above, the NRC staff concludes that the proposed exemption does not involve a significant hazards consideration under the standards set forth in 10 CFR 50.92(c), and accordingly, a finding of “no significant hazards consideration” is justified.

The NRC staff has also determined that the exemption involves no significant increase in the amounts, and no significant change in the types, of any effluents that may be released offsite; that there is no significant increase in individual or cumulative occupational radiation exposure; that there is no significant construction impact; and there is no significant increase in the potential for or consequences from a radiological accident. Furthermore, the requirement from which the licensee will be exempted involves scheduling requirements. Accordingly, the exemption meets the eligibility criteria for categorical exclusion set forth in 10 CFR 51.22(c)(25). Pursuant to 10 CFR 51.22(b) no environmental impact statement or environmental assessment need be prepared in connection with the issuance of the exemption.

5.0 Conclusion

Accordingly, the Commission has determined that, pursuant to 10 CFR 55.11, granting an exemption to the licensee from the schedule requirements in 10 CFR 55.59, by allowing Crystal River a one-time extension in the allowed time for completing the current licensed operator requalification program, is authorized by law and will not endanger life or property and is otherwise in the public interest. Therefore, the Commission hereby grants Florida Power Corporation an exemption on a one-time only basis from the schedule requirement of 10 CFR 55.59, to allow the completion date for the current licensed operator requalification program for the Crystal River Unit 3 Nuclear Generating Plant to be extended from February 28, 2011, to April 30, 2011. The next requalification program period would begin May 1, 2011, and continue for 24 months to April 30, 2013, with successive periods running for 24 months.

This exemption is effective upon issuance.

Dated at Rockville, Maryland, this 20th day of January 2011.
For the Nuclear Regulatory Commission.
Joseph G. Giitter,
Director, Division of Operating Reactor Licensing, Office of Nuclear Reactor Regulation.

[FR Doc. 2011-1911 Filed 1-27-11; 8:45 am]

BILLING CODE 7590-01-P